Title 3—

The President

Proclamation 8767 of December 15, 2011

Wright Brothers Day, 2011

By the President of the United States of America

A Proclamation

On a blustery December morning in 1903, two brothers from Dayton, Ohio, successfully piloted the world’s first powered flying machine and ascended from the steady currents of North Carolina’s Outer Banks into the heights of our collective memory. During the 12 seconds their aircraft remained aloft in Kitty Hawk’s gusty headwinds, Wilbur and Orville Wright sparked a transportation revolution and fulfilled a dream shared across cultures since time immemorial. Today, we commemorate their extraordinary feat and celebrate the spirit of American innovation that propels our Nation toward bold new horizons.

Fashioned from wood and cloth and powered by a four-cylinder engine they designed themselves, the Wright brothers’ Flyer I was the culmination of years of painstaking research and unyielding perseverance. They financed countless experiments with earnings from their bicycle shop, gathering data on wing shape using a home-built wind tunnel and developing the basic controls for pitch, roll, and yaw that, to this day, guide our jetliners to every corner of the world and our spacecraft to the farthest reaches of the Solar System. The technical obstacles they overcame were tremendous, and Orville and Wilbur Wright’s pioneering vision stands as a testament to the will and determination that fuels innovators, inventors, scientists, and entrepreneurs across our country—from home workbenches to national laboratories.

As we pursue progress and prosperity in the 21st century, we remember the key to our success has always been our unparalleled ability to think up new ideas, create new industries, and lead the way in discovery and innovation—just as it was for the Wright brothers over a century ago. To reaffirm our role as the engine that drives science and technology around the world, we must empower our Nation’s youth with a competitive education and the tools to make tomorrow’s breakthrough discoveries.

On December 17, 1903, Wilbur and Orville Wright helped inspire a century of progress and groundbreaking ideas when they guided a small wooden aircraft above the sands of Kitty Hawk and onto the ocean breeze. Even after this monumental achievement, the brothers continued to push the boundaries of flight and possibility, rapidly advancing the field of aeronautics and our burgeoning aviation industry. They inspired other early aviators, including Calbraith Perry Rodgers, who flew a Wright airplane to complete the first transcontinental flight 100 years ago, and Harriet Quimby, who became our Nation’s first female licensed pilot and a groundbreaking aviator. So, too, must we press onward, exploring new frontiers of science, technology, and imagination in pursuit of a brighter future for generations to come. The Wright brothers stand among America’s most celebrated innovators, and today, we recognize all those who look toward the heavens and envision what might be.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2011, as Wright Brothers Day.

IN WITNESS WHEREOF, I have hereunto set my hand this fifteenth day of December, in the year of our Lord two thousand eleven, and of the Independence of the United States of America the two hundred and thirty-sixth.

[FR Doc. 2011-32761

Filed 12-19-11; 11:15 am]

Billing code 3295-F2-P